DEPARTMENT OF TRANSPORTATION

Federal Railroad Administration

49 CFR Parts 209, 234, and 236

[Docket No. FRA-2001-10160]

RIN 2130-AA94

Standards for Development and Use of Processor-Based Signal and Train Control Systems

AGENCY: Federal Railroad Administration (FRA), Transportation (DOT).

ACTION: Extension of comment period.

SUMMARY: By notice of proposed rulemaking (NPRM) published on August 10, 2001 (66 FR 42352) FRA proposed new regulations governing the development and use of processor-based signal and train control systems. In that notice, FRA established a deadline for the submission of written comments of October 9, 2001. Due to the need to ensure that all interested parties have a sufficient amount of time to fully develop their comments and because several requests for additional time to submit written comments have been received by FRA, this document announces an extension of the deadline for the submission of written comments.

DATES: Written comments must be received by November 8, 2001. Comments received after that date will be considered to the extent possible without incurring additional expenses or delay.

ADDRESSES: Comments should be sent to the Docket Clerk, Docket Management System, U.S. Department of Transportation Room PL 401, 400 Seventh Street, SW., Washington, DC 20590-0001. If you wish to receive confirmation of receipt of your written comments, please include a self-addressed, stamped postcard.

The docket management system is located on the Plaza level of the Nassif Building at the Department of Transportation at the above address. You can review public dockets there between the hours of 9 a.m. and 5 p.m., Monday through Friday, except federal holidays. You can also review comments on-line at the DOT Docket Management System web site at http://dms.dot.gov.

You may submit comments electronically by accessing the Docket Management System web site at http://dms.dot.gov and following the instructions for submitting a document electronically.

FOR FURTHER INFORMATION CONTACT: William H. Goodman, Staff Director, Railroad Signal Program, Office of Safety, FRA, 1120 Vermont Avenue, NW., Washington, DC 20590 (telephone: 202-493-6325); Grady C. Cothen, Jr., Deputy Associate Administrator for Safety Standards, FRA, 1120 Vermont Avenue, NW., Mail Stop 25, Washington, DC 20590 (telephone: 202-493-6302); Cynthia B. Walters, Office of Chief Counsel, FRA 1120 Vermont Avenue, NW., Mail Stop 10, Washington, DC 20590 (telephone: 202-493-6064); or David T. Matsuda, Office of Chief Counsel, FRA, 1120 Vermont Avenue, NW., Mail Stop 10, Washington, DC 20590 (telephone: 202-493-6046).

SUPPLEMENTARY INFORMATION: Recently, a few interested parties notified FRA of the need for additional time in which to prepare their written comments. Due to the novelty of this rulemaking, FRA does not wish to inhibit the ability of any party to fully develop its comments and seeks to provide sufficient time for all interested parties to gather necessary information. Therefore, as FRA is inclined to extend the period for the submission of written comments for certain interested parties, FRA is compelled to provide the same extension to all commenters. Consequently, FRA believes it is in the best interest of all parties involved to extend the period for the submission of written comments in this proceeding to November 8, 2001. It should be noted that FRA does not expect anyone to seek any further extension of the comment period in this proceeding and will consider comments submitted after November 8, 2001, only to the extent possible without causing additional expense or delay.

The proposed rulemaking is based upon a recommendation from the Railroad Safety Advisory Committee (RSAC). A meeting of the Positive Train Control Working Group from this committee is planned for December 4-6, 2001, in San Antonio, TX. For further information, please see the RSAC web site at http://rsac.fra.dot.gov/.

Issued in Washington, DC on October 2, 2001.
George A. Gavalla,
Associate Administrator for Safety.

[FR Doc. 01-25224 Filed 10-5-01; 8:45 am]

BILLING CODE 4910-06-P